DEPARTMENT OF COMMERCE

International Trade Administration

[Docket No. 970424097-1069-06]

RIN 0625-ZA05

Market Development Cooperator Program

AGENCY: International Trade Administration, Commerce.

ACTION: Correction of notice of funding availability.

On page 31781 in the issue of Friday, May 10, 2002, in the second column, “June 10, 2002” should read “July 1, 2002”. With this change, the affected sentence reads as follows: “From May 10, 2002, until July 1, 2002, the Department does not counsel potential applicants regarding the merits of projects they may propose in their applications.”

FOR FURTHER INFORMATION CONTACT: Mr. Brad Hess, Manager, Market Development Cooperator Program, Trade Development, ITA, U.S. Department of Commerce, 14th Street and Constitution Avenue, NW., Room 3215, Washington, DC 20230.

E-mail: Brad_Hess@ita.doc.gov. Phone/Fax: (202) 482-2969/-4462.

Internet: http://www.export.gov/mdcp.

Dated: May 14, 2002.
Robert W. Pearson,
Director, Office of Planning, Coordination and Management, Trade Development, International Trade Administration, Department of Commerce.

[FR Doc. 02-12528 Filed 5-17-02; 8:45 am]

BILLING CODE 3510-DR-P